DEPARTMENT OF JUSTICE

Antitrust Division

Notice Pursuant to the National Cooperative Research and Production Act of 1993—PXI Systems Alliance, Inc

Notice is hereby given that, on June 4, 2008, pursuant to Section 6(a) of the National Cooperative Research and Production Act of 1993, 15 U.S.C. 4301 et seq. (“the Act”), PXI Systems Alliance, Inc. has filed written notifications simultaneously with the Attorney General and the Federal Trade Commission disclosing changes in its membership. The notifications were filed for the purpose of extending the Act's provisions limiting the recovery of antitrust plaintiffs to actual damages under specified circumstances. Specifically, Averna, Montreal, Quebec, CANADA has been added as a party to this venture. Also, National Technical Systems, Albuquerque, NM; and Amida Technology, Inc., Chung Ho, Taipei, TAIWAN have withdrawn as parties to this venture.

No other changes have been made in either the membership or planned activity of the group research project. Membership in this group research project remains open, and PXI Systems Alliance, Inc. intends to file additional written notifications disclosing all changes in membership.

On November 22, 2000, PXI Systems Alliance, Inc. filed its original notification pursuant to Section 6(a) of the Act. The Department of Justice published a notice in the Federal Register pursuant to Section 6(b) of the Act on March 8, 2001 (66 FR 13971).

The last notification was filed with the Department on March 25, 2008. A notice was published in the Federal Register pursuant to Section 6(b) of the Act on May 9, 2008 (73 FR 26413).

Patricia A. Brink,
Deputy Director of Operations, Antitrust Division.

[FR Doc. E8-15556 Filed 7-10-08; 8:45 am]

BILLING CODE 4410-11-M